DEPARTMENT OF STATE

[Public Notice 4186]

Bureau of Oceans and International Environmental and Scientific Affairs; Public Meeting to Discuss the United Nations Environment Program (UNEP) Global Mercury Assessment

SUMMARY: The Department of State will host two public meetings on November 7, 2002 for interested parties, one for environmental non-governmental organizations and one for industry representatives. The non-governmental organization and the industry meetings will take place at the Ariel Rios North Building in room 1332 at 1200 Pennsylvania Avenue NW, Washington DC at 10 am and 11:30 am respectively. Attendees must bring picture identification with them to gain entry to the building and should RSVP to Audrey Slayton at 202-564-7426 or slayton.audrey@epa.gov.

SUPPLEMENTARY INFORMATION: UNEP Chemicals undertook a process to develop a global assessment of mercury and its compounds. This report, which includes options for addressing mercury's adverse impacts, will be presented to the UNEP Governing Council at its twenty-second session in February 2003.

To complete the global mercury assessment, UNEP established a working group with participants from governments, non-governmental organizations and the private sector. This working group, which met in September 2002, concluded that in their view there was sufficient evidence of significant adverse impacts to human health and the environment from mercury to warrant international action of some type. The working group developed an outline of possible options to address mercury impacts on a local, national, regional, and global level. The UNEP Governing Council is likely to use this report as the basis for a decision on the appropriate role of UNEP in addressing the issue of mercury. The outline of options and other meeting documents can be found at http://irptc.unep.ch/mercury/WG-meeting1.htm. For further information, please contact John Thompson, U.S. Department of State, Office of Environmental Policy (OES/ENV), Room 4325, 2201 C Street NW, Washington DC 20520, phone 202-647-9799, fax 202-647-5947, ThompsonJE2@state.gov.

Timetable and Point of Contact

The public meetings will be held on November 7, 2002 in room 1332 at the U.S. Environmental Protection Agency in the Ariel Rios North Building at 1200 Pennsylvania Avenue. The entrance to the building is at street level directly adjacent to the Federal Triangle Metro escalator. The meetings for non-governmental organizations and industry will be held at 10 am and 11:30 am respectively. The U.S. Department of State is issuing this notice to help ensure interested parties are aware of the UNEP Governing Council discussions on mercury, and have an opportunity to offer comments to the U.S. Government on the issues raised in UNEP's Global Mercury Assessment. Those organizations or individuals which cannot attend the meeting, but wish to either submit a written comment or to remain informed, should provide Margaret Wilson of the U.S. Department Of State with a statement and their name, organization, address, phone number, and e-mail. Margaret Wilson can be contacted at the U.S. Department of State, Office of Environmental Policy (OES/ENV), Room 4325, 2201 C Street NW., Washington DC 20520, phone 202-647-4833, fax 202-647-5947, WilsonMA2@state.gov.

Dated: October 25, 2002.
Jeff Lunstead,
Director, Office of Environmental Policy, Bureau of Oceans, International Environment, & Scientific Affairs, Department Of State.

[FR Doc. 02-27713 Filed 10-30-02; 8:45 am]

BILLING CODE 4710-09-P